DEPARTMENT OF LABOR

Employment and Training Administration

[TA-W-65,882]

Belcher-Robinson Foundry, Alexander City, AL; Notice of Revised Determination on Reconsideration

On July 15, 2009, the Department issued an Affirmative Determination Regarding Application for Reconsideration applicable to workers and former workers of the subject firm. The notice was published in the Federal Register on July 30, 2009 (74 FR 38046).

The initial investigation initiated on May 4, 2009, resulted in a negative determination issued on June 17, 2009, was based on the finding that imports of automotive drive train components did not contribute importantly to worker separations at the subject firm and no shift in production to a foreign source occurred. The denial notice was published in the Federal Register on July 14, 2009 (74 FR 34038).

On reconsideration, the Department determined that the workers of the subject firm manufactured iron casting components for various industries. The Department requested an additional list of customers of the subject firm and conducted a customer survey to determine whether imports of iron casting components negatively impacted employment at the subject firm.

The survey of the subject firm's major declining customers revealed that the customers increased their imports of iron casting components while decreasing purchases from the subject firm from 2007 to 2008.

In accordance with Section 246 the Trade Act of 1974 (26 USC 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Belcher-Robinson Foundry, Alexander City, Alabama, contributed importantly to the declines in sales or production and to the total or partial separation of workers at the subject firm. In accordance with the provisions of the Act, I make the following certification:

All workers of Belcher-Robinson Foundry, Alexander City, Alabama, who became totally or partially separated from employment on or after March 30, 2008, through two years from the date of this certification, are eligible to apply for adjustment assistance under Section 223 of the Trade Act of 1974, and are eligible to apply for alternative trade adjustment assistance under Section 246 of the Trade Act of 1974.

Signed in Washington, DC, this 21st day of October 2009.
Elliott S. Kushner,
Certifying Officer, Division of Trade Adjustment Assistance.

[FR Doc. E9-26564 Filed 11-4-09; 8:45 am]

BILLING CODE 4510-FN-P